ENVIRONMENTAL PROTECTION AGENCY

[EPA-HQ-OPPT-2003-0604; FRL-7774-6]

Access to Confidential Business Information by Chemical Abstract Services; Correction

AGENCY: Environmental Protection Agency (EPA).

ACTION: Correction.

SUMMARY: EPA issued a notice in the Federal Register of November 29, 2005, concerning the authorization of EPA's contractor Chemical Abstract Services, of Columbus, Ohio, to access information which has been submitted to EPA under sections 5 and 8 of the Toxic Substances Control Act (TSCA). This document is being issued to correct errors in that notice.

FOR FURTHER INFORMATION CONTACT: For general information contact: Colby Lintner, Regulatory Coordinator, Environmental Assistance Division (7408M), Office of Pollution Prevention and Toxics, Environmental Protection Agency, 1200 Pennsylvania Ave., NW., Washington, DC 20460; telephone number: (202) 554-1404; e-mail address: TSCA-Hotline@epa.gov.

For technical information contact: Scott M. Sherlock, TSCA Security Staff, Environmental Assistance Division (7408M), Office of Pollution Prevention and Toxics, Environmental Protection Agency, 1200 Pennsylvania Ave., NW., Washington, DC 20460; telephone number: (202)564-8257; e-mail address: sherlock.scott@epa.gov

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the technical person listed under FOR FURTHER INFORMATION CONTACT.

B. How Can I Get Copies of this Document and Other Related Documents?

1. Docket. EPA has established a docket for this action under docket identification (ID) number EPA-HQ-OPPT-2003-0004. Publicly available docket materials are available electronically at http://www.regulations.gov or in hard copy at the OPPT Docket, EPA Docket Center, EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr/.

II. What Does this Correction Do?

In FR Doc 05-23437 published in the Federal Register of November 29, 2005 (70 FR 71500) (FRL-7751-6), EPA issued a notice announcing the access of information submitted to EPA under sections 5 and 8 of TSCA to Chemical Abstract Services. In that document the access date and expiration date were inadvertently listed. The document is corrected as follows:

1. On page 71501, first column, the date unit should have read:

“DATES: Access to confidential data will occur on March 1, 2006.”

2. On page 71501, second column, under Unit II., the fifth paragraph is corrected to read:

“Clearance for access to TSCA CBI under Contract Number EP-W-06-011 may continue until December 31, 2012. Access will occur on March 1, 2006.”

List of Subjects

Environmental protection, Confidential business information.

March 29, 2006.
Vicki Simons,
Acting Director, Information Management Division, Office of Pollution Prevention and Toxics.

[FR Doc. E6-4931 Filed 4-4-06; 8:45 am]

BILLING CODE 6560-50-S